DEPARTMENT OF LABOR

Vacancy Posting for a Member of the Administrative Review Board

Summary of Duties: The incumbents exercise completely independent judgment in considering and deciding appeals and other matters which come before the Boards required by law and any applicable regulations. They sign decisions with which they agree or take such action as appropriate, including that of writing concurring and/or dissenting opinions. Also included there in are the following responsibilities, exercised jointly by the Chair and the Board Members: Establishing general policies for the Board's operations; participation at Board case conferences and at oral argument; and other responsibilities necessary for the orderly and efficient disposition of all matters properly before the Board.

Appointment Type: Excepted. The term of appointment is for four years or less and may be extended.

Qualifications: The applicant should be well versed in law and have the ability to interpret statutes and regulations and come to a determination with other members of the Board or as appropriate, write separately in appellate cases involving a broad range of legal, medical, economic and technical issues which affect the entire maritime and coal mining industries. Applicants must possess a J.D. and are required to be active members of the Bar in any U.S. State or U.S. Territory Court under the U.S. Constitution.

To Be Considered: Applicants must provide a detailed resume containing a demonstrated ability to perform as a Member of the Board.

Closing Date: Resumes must be submitted (postmarked, if sending by mail; submitted electronically; or received, if hand-delivered) by 11:59 p.m. EDT on October 23, 2019. Resumes must be submitted to: sylvia.john@dol.gov or mail to: U.S. Department of Labor, 200 Constitution Avenue NW, ATTN: Office of Executive Resources, Room N2453, Washington, DC 20210, phone: 774-365-6851. This is not a toll-free number.

Dated: September 23, 2019.
Bryan Slater,
Assistant Secretary for Administration & Management.

[FR Doc. 2019-20887 Filed 9-25-19; 8:45 am]

BILLING CODE 4510-04-P